DEPARTMENT OF AGRICULTURE

Forest Service

Dakota Prairie Grasslands, Medora Ranger District; North Dakota; North Billings County Range Allotment Management Plan Revisions

AGENCY: Forest Service, USDA.

ACTION: Notice of intent to prepare an environmental impact statement.

SUMMARY: The Medora Ranger District, Dakota Prairie Grasslands, proposes to continue grazing on 48 allotments in a manner consistent with direction set forth in the Dakota Prairie Grasslands Land and Resource Management Plan (Grasslands Plan) and applicable laws. The ETS will lay the groundwork for revising the Allotment Management Plans (AMPs) for the 48 allotments. Site-specific resource objectives, allowable grazing strategies, and adaptive management tools will be set forth in the EIS in order to allow managers flexibility to meet objectives.

DATES: Comments concerning the scope of the analysis must be received within 30 days of publication of this notice in the Federal Register. The draft environmental impact statement is expected in August 2008 and the final environmental impact statement is expected in December 2008.

ADDRESSES: Send written comments to Ronald W. Jablonski, Jr., District Ranger, Medora Ranger District, 23 Ave W., Suite B, Dickinson, ND 58601, or e-mail your comments to comments-northern-dakota-praire-medora@fs.fed.us.

FOR FURTHER INFORMATION CONTACT: Jeff Adams, Project Leader, or Nickole Dahl, Co-Project Leader at the Medora Ranger District, USDA Forest Service at the above address or call (701) 227-7800.

SUPPLEMENTARY INFORMATION:

Purpose and Need for Action

The purpose of this action is to develop AMPs for permitted domestic livestock grazing using management that is consistent with the Grasslands Plan direction and to maintain, meet, or move towards desired resource conditions within a 10-20 year timeframe following the decision. There is an overall need for greater management flexibility to meet Grasslands Plan resource goals and objectives and to cope with fluctuations in environmental and social conditions including, but not limited to, annual changes in weather; to be responsive to permittee requests for reasonable operational adjustments; and to respond to unforeseen issues.

Proposed Action

The Forest Service proposes to continue grazing on 48 allotments which are located on the Medora Ranger District in a manner consistent with direction in the Grasslands Plan and applicable laws. The proposal takes an adaptive management approach to allow flexibility for both the Forest Service and the livestock operators to manage appropriately under changing conditions.

The Forest Service has developed allotment-specific desired conditions, needs, and adaptive management proposals designed to meet the overall purpose and need for the project area. Affected resources will be monitored to determine whether they are moving toward, meeting or maintaining desired conditions. If desired conditions are not being met, or measureable progress is not being made toward them, then adaptive management practices will be employed.

Possible Alternatives

Alternatives in addition to the proposed action include:

• A No Action alternative, which would exclude all domestic livestock grazing.

• A current management alternative, which would continue grazing as currently authorized.

• An adaptive management alternative that accounts for changes in animal unit forage demands based on changes in cow/calf size.

• An adaptive management alternative which considers actions that can be implemented to maintain or improve resource conditions including adjusting authorized use based on estimated livestock carrying capacities and changes in animal unit forage demands based on cow/calf size.

Other alternatives may be developed in response to comments.

Responsible Official

Ronald W. Jablonski, Jr., Medora District Ranger is the responsible official. See address under the ADDRESSES section above.

Nature of Decision To Be Made

The District Ranger will decide, whether to implement specific changes in grazing management to meet desired conditions, what optional grazing strategies may be used to meet desired conditions, and what monitoring items need to be included.

Scoping Process

Public participation is important to this analysis. Part of the goal of public involvement is to identify additional issues and to refine general issues. Scoping notices will be mailed to the public on or before May 23, 2008. People may visit with Forest Service officials at any time during the analysis and prior to the decision. Two periods are specifically designated for comments on the analysis: (1) During the scoping process, and (2) during the draft ETS period. During the scoping process, the Forest Service seeks additional information and comments from individuals, organizations, and federal, state, and local agencies that may be interested in or affected by the proposed action. The Forest Service invites written comments and suggestions on this action, particularly in terms of issues and alternative development. While public participation in this analysis is welcome at any time, comments received within 30 days of the publication of this notice will be especially useful in the preparation of the draft environmental impact statement.

Preliminary Issues

Issues identified through preliminary work include: Effects of livestock grazing in woody draws, effects of livestock grazing on riparian areas, effects of livestock grazing on herbaceous structure, effects of potential management actions on the local economy, drought, species composition, and the need for a drought management strategy.

Comment Requested

This notice of intent initiates the scoping proces which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 8, 2008.
Ronald W. Jablonski, Jr.,
District Ranger.

[FR Doc. E8-10732 Filed 5-14-08; 8:45 am]

BILLING CODE 3410-11-M